NUCLEAR REGULATORY COMMISSION

10 CFR Part 72

[NRC-2020-0059]

Guidance for Implementation of 10 CFR 72.48, `Changes, Tests, and Experiments'

AGENCY: Nuclear Regulatory Commission.

ACTION: Draft regulatory guide; request for comment.

SUMMARY: The U.S. Nuclear Regulatory Commission (NRC) is issuing for public comment draft regulatory guide (DG), DG-3054. This DG is proposed Revision 1 of Regulatory Guide 3.72 of the same name. The proposed revision endorses Nuclear Energy Institute (NEI) 12-04, Revision 2 with exceptions and clarification. NEI 12-04, Revision 2, updates and revises previous guidance to incorporate operating experience and NRC's inspection findings. In addition, RG 3.72, Revision 1, changes the NRC's guidance on departures from a method of evaluation (MOE) and the NRC's approval of an MOE.

DATES: Submit comments by August 3, 2020. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Website: Go to https://www.regulations.gov and search for Docket ID NRC-2020-0059. Address questions about NRC docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Marlone Davis, telephone: 301-415-7447, email: Marlone.Davis@nrc.gov, and Harriet Karagiannis, telephone: 301-415-2493, email: Harriet.Karagiannis@nrc.gov. Both are staff of the U.S. Nuclear Regulatory Commission, Washington, DC 20555-0001.

SUPPLEMENTARY INFORMATION:

I. Obtaining Information and Submitting Comments

A. Obtaining Information

Please refer to Docket ID NRC-2020-0059 when contacting the NRC about the availability of information for this action. You may obtain publicly-available information related to this action by any of the following methods:

• Federal Rulemaking Website: Go to https://www.regulations.gov and search for Docket ID NRC-2020-0059.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

B. Submitting Comments

Please include Docket ID NRC-2020-0059 in your comment submission. The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a draft guide in the NRC's “Regulatory Guide” series. This series was developed to describe methods that are acceptable to the NRC staff for implementing specific parts of the agency's regulations, to explain techniques that the staff uses in evaluating specific issues or postulated events, and to describe information that the staff needs in its review of applications for permits and licenses.

This DG, identified by its task number, DG-3054, titled, “Guidance for Implementation of 10 CFR 72.48, `Changes, Tests, And Experiments” (ADAMS Accession No. ML19269B763). The draft guide is proposed Revision 1 of RG 3.72 of the same name. The proposed revision describes an approach that is acceptable to NRC to meet regulatory requirements related to changes affecting independent spent fuel storage installations (ISFSIs), spent fuel storage cask designs, and monitored retrievable storage installations (MRSs) by endorsing guidance document NEI 12-04, “Guidelines for 10 CFR 72.48 Implementation,” Revision 2.

The staff is also issuing for public comment a draft regulatory analysis (ADAMS Accession No. ML19269B764). The staff develops a regulatory analysis to assess the value of issuing or revising a regulatory guide as well as alternative courses of action.

III. Backfitting, Forward Fitting, and Issue Finality

Issuance of this draft regulatory guide in final form would not constitute backfitting as defined in title 10 of the Code of Federal Regulations (10 CFR) section 72.62, “Backfitting,” and as described in NRC Management Directive 8.4, “Management of Backfitting, Forward Fitting, Issue Finality, and Information Requests” (ADAMS Accession No. ML18093B087). As explained in section D., “Implementation,” of the draft regulatory guide, licensees would not be required to comply with the positions set forth in this draft regulatory guide.

Dated: May 27, 2020.
For the Nuclear Regulatory Commission.
Stanley J. Gardocki,
Acting Chief, Regulatory Guidance and Generic Issues Branch, Division of Engineering, Office of Nuclear Regulatory Research.

[FR Doc. 2020-11717 Filed 6-1-20; 8:45 am]

BILLING CODE 7590-01-P